DEPARTMENT OF TRANSPORTATION

Surface Transportation Board

[Docket No. FD 35247 (Sub-No. 1)]

Grenada Railway, LLC—Rail Line in Grenada, Montgomery, Carroll, Holmes, Yazoo and Madison Counties, Miss.

AGENCY: Surface Transportation Board, DOT.

ACTION: Notice of public meeting.

SUMMARY: Staff members of the Surface Transportation Board will hold a public meeting concerning the rail line embargo at issue in the above-titled docket. The purpose of the meeting is to allow interested persons to comment on the effects of the embargo.

DATES: Date/Location: The public meeting will take place on Friday, November 15, 2013, beginning at 9:00 a.m., at the Montgomery County Courthouse, 614 Summit St., Winona, Miss.

FOR FURTHER INFORMATION CONTACT: Jamie Rennert, (202) 245-0283. [Assistance for the hearing impaired is available through the Federal Information Relay Service (FIRS) at 1-800-877-8339.]

SUPPLEMENTARY INFORMATION: In a decision served on September 10, 2013, the Board denied a petition in Docket No. FD 35247 to revoke Grenada Railway, LLC's (GRYR) exemption to acquire and operate a rail line approximately 175.4 miles long between milepost 403.0, at Southaven, Miss., and milepost 703.8, near Canton, Miss. (the Line). In that same decision, the Board also established this subdocket to assess the lawfulness of an embargo GRYR imposed on a portion of the Line in 2011.¹ In doing so, the Board directed GRYR to file responses to certain information requests concerning GRYR's embargo and indicated that it would hold a public meeting, conducted by Board staff, in Mississippi to allow interested persons to appear and speak on the effects of the embargo.²

¹ The Association of American Railroads (AAR) embargo number for this embargo is GRYR000111. The Board has taken official notice of the fact that the embargo expired as of July 26, 2013.

² See Grenada Ry.—Rail Line in Grenada, Montgomery, Carroll, Holmes, Yazoo, & Madison Cntys., Miss., FD 35247 (Sub-No. 1), slip op. at 4-6 (STB served Sept. 10, 2013).

During the public meeting, Board staff will hear comments regarding GRYR's embargo. The meeting will continue until all interested persons or parties have had an opportunity to speak. Persons wishing to speak should place their names on the list of speakers upon arrival at the Montgomery County Courthouse. A court reporter will transcribe the meeting and prepare a transcript that will be included in the public record of the proceeding.

All decisions, notices, and filings in this proceeding are available on the Board's Web site at “www.stb.dot.gov.” A transcript of the meeting will also be posted on the Board's Web site.

This action will not significantly affect either the quality of the human environment or the conservation of energy resources.

Dated: September 30, 2013.
By the Board, Rachel D. Campbell, Director, Office of Proceedings.
Jeffrey Herzig,
Clearance Clerk.

[FR Doc. 2013-24313 Filed 10-3-13; 8:45 am]

BILLING CODE 4915-01-P